FEDERAL FINANCIAL INSTITUTIONS EXAMINATION COUNCIL

[Docket No. AS24-04]

Agency Information Collection Activities; Renewal of an Approved Information Collection: Reporting Information for the AMC Registry

AGENCY: Appraisal Subcommittee of the Federal Financial Institutions Examination Council (ASC).

ACTION: Notice and request for comments.

SUMMARY: In accordance with the Paperwork Reduction Act of 1995, the ASC invites public comments on our intention to request the Office of Management and Budget (OMB) approval to renew an information collection request entitled “Reporting information for the AMC Registry.”

DATES: Written comments must be received on or before April 5, 2024 to be assured of consideration.

ADDRESSES: Commenters are encouraged to submit comments by the Federal eRulemaking Portal or email, if possible. You may submit comments, identified by Docket Number AS24-04, by any of the following methods:

• Federal eRulemaking Portal: https://www.Regulations.gov. Follow the instructions for submitting comments. Click on the “Help” tab on the Regulations.gov home page to get information on using Regulations.gov, including instructions for submitting public comments.

• E-Mail: webmaster@asc.gov. Include the docket number in the subject line of the message.

• Fax: (202) 289-4101. Include the docket number of fax cover sheet.

• Mail: Address to Appraisal Subcommittee, Attn: Lori Schuster, Management and Program Analyst, 1325 G Street NW, Suite 500, Washington, DC 20005.

• Hand Delivery/Courier: 1325 G Street NW, Suite 500, Washington, DC 20005.

In general, the ASC will enter all comments received into the docket and publish those comments on the Regulations.gov website without change, including any business or personal information that you provide, such as name and address information, email addresses, or phone numbers. Comments received, including attachments and other supporting materials, are part of the public record and subject to public disclosure. Do not enclose any information in your comment or supporting materials that you consider confidential or inappropriate for public disclosure. The ASC will summarize and/or include your comments in the request for OMB's clearance of this information collection.

You may review comments and other related materials that pertain to this action by any of the following methods:

• Viewing Comments Electronically: Go to https://www.Regulations.gov. Enter “Docket ID AS24-04” in the Search box and click “Search.” Click on the “Help” tab on the Regulations.gov home page to get information on using Regulations.gov, including instructions for viewing public comments, viewing other supporting and related materials, and viewing the docket after the close of the comment period.

• Viewing Comments Personally: You may personally inspect comments at the ASC office, 1325 G Street NW, Suite 500, Washington, DC 20005. To make an appointment, please call Lori Schuster at (202) 595-7578.

FOR FURTHER INFORMATION CONTACT: Lori Schuster, Management and Program Analyst, at (202) 595-7578, Appraisal Subcommittee, 1325 G Street NW, Suite 500, Washington, DC 20005.

SUPPLEMENTARY INFORMATION:

Title: Reporting information for the AMC Registry.

OMB Number: 3139-0009.

Abstract: The Dodd-Frank Act requires the ASC to maintain the National Registry of Appraisal Management Companies (AMC Registry) of those AMCs that are either: (1) registered with and subject to supervision by a State that has elected to register and supervise AMCs; or (2) are Federally regulated AMCs. In order for a State to enter an AMC on the AMC Registry, the following items are required entries by the State via extranet application on the AMC Registry:

State Abbreviation

State Registration Number for AMC

Employer Identification Number (EIN)

AMC Name

Street Address

City

State

Zip

License or Registration Status

Effective Date

Expiration Date

AMC Type (State or multi-State)

Disciplinary Action

Effective Date

Expiration Date

Number of Appraisers (for invoicing registry fee)

States listing AMCs on the AMC Registry enter the above information for each AMC for the initial entry only. After the initial entry, the information is retained on the AMC Registry, and will only need to be amended, if necessary, by the State. The estimate for burden assumes that 51 States will continue to register and supervise AMCs, and that the average number of AMCs in a State will be 101. This estimate is based on information currently available on the AMC Registry, and will be high for some States, and low for other States. As of January 16, 2024, 49 States are submitting data to the AMC Registry. The initial entry by a State on a single AMC is estimated to take 15 minutes. Subsequent entries to amend information on an AMC, annually or periodically, are estimated to also be 15 minutes.

Current Action: Annual burden has been increased from 1,148 hours to 1,275 as the number of 90 that was used in the previous collection renewal estimate has been increased to 101.

Type of Review: Extension of a currently approved collection.

Affected Public: States.

Estimated Number of Respondents: 51 States.

Estimated burden per Response: 15 minutes.

Frequency of Response: Annually and on occasion.

Estimated total Annual Burden: 1,275 hours.

By the Appraisal Subcommittee.
James R. Park,
Executive Director.

[FR Doc. 2024-02184 Filed 2-2-24; 8:45 am]

BILLING CODE 6700-01-P